NUCLEAR REGULATORY COMMISSION

[NRC-2020-0160]

Changes to Subsequent License Renewal Guidance Documents

AGENCY: Nuclear Regulatory Commission.

ACTION: Draft interim staff guidance; request for comment.

SUMMARY: The U.S. Nuclear Regulatory Commission (NRC) is issuing for use and to solicit public comment, three draft interim staff guidance documents (ISGs) that propose changes to the NRC's subsequent license renewal guidance documents. Specifically, the ISGs revise guidance contained in NUREG-2191, “Generic Aging Lessons Learned for Subsequent License Renewal (GALL-SLR) Report,” and NUREG-2192, “Standard Review Plan for Review of Subsequent License Renewal Applications for Nuclear Power Plants.” NUREG-2191 and NUREG-2192 were published in July 2017 and are not scheduled to be updated for several years. The proposed changes to these documents are contained in the three draft ISGs that update aging management criteria for mechanical, structural, and electrical structures and components.

DATES: Submit comments by August 3, 2020. Comments received after this date will be considered if it is practical to do so, but the Commission is able to ensure consideration only for comments received on or before this date.

ADDRESSES: You may submit comments by any of the following methods:

• Federal Rulemaking Website: Go to https://www.regulations.gov and search for Docket ID NRC-2020-0160. Address questions about NRC dockets IDs in Regulations.gov to Jennifer Borges; telephone: 301-287-9127; email: Jennifer.Borges@nrc.gov. For technical questions, contact the individual(s) listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: William (Butch) Burton, Office of Nuclear Reactor Regulation, U.S. Nuclear Regulatory Commission, Washington, DC 20555-0001; telephone: 301-415-6332; email: William.Burton@nrc.gov.

SUPPLEMENTARY INFORMATION:

I. Obtaining Information and Submitting Comments

A. Obtaining Information

Please refer to Docket ID NRC-2020-0160 when contacting the NRC about the availability of information for this action. You may obtain publicly-available information related to this action by any of the following methods:

• Federal Rulemaking Website: Go to https://www.regulations.gov and search for Docket ID NRC-2020-0160.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. For the convenience of the reader, instructions about obtaining materials referenced in this document are provided in the “Availability of Documents” section.

• NRC's License Renewal Interim Staff Guidance Website: SLR-ISG documents are available online at https://www.nrc.gov/reading-rm/doc-collections/isg/license-renewal.html.

B. Submitting Comments

Please include Docket ID NRC-2020-0160 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

The NRC staff has completed its safety reviews of the first three Subsequent License Renewal Applications (SLRAs) for Turkey Point Nuclear Generating Units 3 and 4, Peach Bottom Atomic Power Station, Units 2 and 3, and Surry Power Station, Units 1 and 2. The NRC staff used the guidance contained in NUREG-2191, “Generic Aging Lessons Learned for Subsequent License Renewal (GALL-SLR) Report,” and NUREG-2192, “Standard Review Plan for Review of Subsequent License Renewal Applications for Nuclear Power Plants” to conduct its SLRA safety reviews for those SLRAs. Since March 2019, the NRC staff held several public meetings to consider lessons learned from these safety reviews and identify areas where the technical guidance in NUREG-2191 and NUREG-2192 could be improved or clarified and where new technical guidance was warranted. The meetings summaries and respective ADAMS Accession Numbers are listed under the “Availability of Documents” section of this document.

III. Specific Request for Comments

The NRC is issuing for use and to solicit public comment, three draft ISGs that proposes changes to the NRC's subsequent license renewal guidance in NUREG-2191 and NUREG-2192. NUREG-2191 and NUREG-2192 were published in July 2017 and are not scheduled to be updated for several years. The process of updating these NUREGs involves major review and evaluation by the staff, the nuclear industry, and the public, and will take approximately 5 years once the process begins. Several SLRAs are scheduled for submittal to the NRC for review within the next 2 years. Issuance of these ISGs is intended to provide improvements in the effectiveness and efficiency of the preparation and review of the SLRAs.

The proposed changes to NUREG-2191 and NUREG-2192 are contained in three draft ISGs that update aging management criteria for mechanical, structural, and electrical structures and components. In addition, minor edits are proposed where errors were identified in the existing guidance.

A. Draft SLR-ISG-MECHANICAL-2020-XX; Updated Aging Management Criteria for Mechanical Portions of Subsequent License Renewal Guidance

The mechanical ISG is titled, “Draft SLR-ISG-MECHANICAL-2020-XX; Updated Aging Management Criteria for Mechanical Portions of Subsequent License Renewal Guidance,” and is available in ADAMS under Accession No. ML20156A330.

This ISG revises the following aging management guidance:

• Aging Management Program (AMP) X.M2, “Neutron Fluence Monitoring”

• AMP XI.M2, “Water Chemistry”

• AMP XI.M12, “Thermal Aging Embrittlement of Cast Austenitic Stainless-Steel (CASS)”

• AMP XI.M21A, “Closed Treated Water System”

• Aging Management Review (AMR) Line Items Associated with AMP XI.M26, “Fire Protection”

• Standard Review Plan—Subsequent License Renewal (SRP-SLR) Table 3.3-1 and Generic Aging Lessons Learned for Subsequent License Renewal (GALL-SLR) Volume 1 Table VII H2 to include a line item to manage the reduction of heat transfer for a steel heat exchanger radiator exposed internally to diesel fuel oil.

• SRP-SLR Table 3.3-1and GALL-SLR Volume 1 Table VII H2 to include a line item to manage loss of material for nickel alloy externally exposed to diesel fuel oil

• AMP XI.M42, “Internal Coatings/Linings for In-Scope Piping, Piping Components, Heat Exchangers, and Tanks”

B. Draft SLR-ISG-STRUCTURES-2020-XX; Updated Aging Management Criteria for Structures Portions of Subsequent License Renewal Guidance

This ISG is titled, “Draft SLR-ISG-STRUCTURES-2020-XX; Updated Aging Management Criteria for Structures Portions of Subsequent License Renewal Guidance,” and is available in ADAMS under Accession No. ML20156A338.

This ISG revises the following aging management guidance:

• SRP-SLR sections 3.5.2.2.1.5 and 3.5.3.2.1.5, SRP-SLR Table 3.5-1, “Summary of Aging Management Programs for Containments, Structures and Component Supports Evaluated in Chapters II and III of the GALL-SLR Report,” Items 027 and 040, and corresponding GALL-SLR Report AMR items.

• AMP XI.S8, “Protective Coating Monitoring and Maintenance”

• GALL-SLR Report Chapter II AMR Item tables

• GALL-SLR Report Chapter III AMR Item tables

• SRP-SLR Section 3.5, “Aging Management of Containments, Structures, and Component Supports,” and associated AMR Line Items in GALL-SLR

C. Draft SLR-ISG-ELECTRICAL-2020-XX; Updated Aging Management Criteria for Electrical Portions of Subsequent License Renewal Guidance

This ISG is titled, “Draft SLR-ISG-ELECTRICAL-2020-XX; Updated Aging Management Criteria for Electrical Portions of Subsequent License Renewal Guidance,” and is available in ADAMS under Accession No. ML20156A324.

This ISG revises the following aging management guidance:

• AMP XI.E3A, “Electrical Insulation for Inaccessible Medium-Voltage Power Cables Not Subject to 10 CFR 50.49 Environmental Qualification Requirements”

• AMP XI.E3B, “Electrical Insulation for Inaccessible Instrument and Control Cables Not Subject to 10 CFR 50.49 Environmental Qualification Requirements”

• AMP XI.E3C, “Electrical Insulation for Inaccessible Low-Voltage Power Cables Not Subject to 10 CFR 50.49 Environmental Qualification Requirements”

• AMP XI.E7, “High-Voltage Insulators

IV. Availability of Documents

The documents identified in the following table are available to interested persons in ADAMS, as indicated.

Document | ADAMS Accession No.
NUREG-2191, “Generic Aging Lessons Learned for Subsequent License Renewal (GALL-SLR) Report” | ML16274A389 ML16274A399
NUREG-2192, “Standard Review Plan for Review of Subsequent License Renewal Applications for Nuclear Power Plants” | ML16274A402
Draft SLR-ISG-MECHANICAL-2020-XX; Updated Aging Management Criteria for Mechanical Portions of Subsequent License Renewal Guidance | ML20156A330
Draft SLR-ISG-STRUCTURES-2020-XX; Updated Aging Management Criteria for Structures Portions of Subsequent License Renewal Guidance | ML20156A338
Draft SLR-ISG-ELECTRICAL-2020-XX; Updated Aging Management Criteria for Electrical Portions of Subsequent License Renewal Guidance | ML20156A324
March 28, 2019, Summary Of Category 2 Public Meeting On Lessons Learned From The Review Of The First Subsequent License Renewal Applications | ML19112A206
Summary of December 12, 2019, Category 2 Public Meeting On Lessons Learned From The Review Of The First Subsequent License Renewal Applications | ML20016A347
February 20, 2020, Summary of Category 2 Public Meeting on Lessons Learned from the Review of the First Subsequent License Renewal Applications | ML20076E074
Summary of March 25, 2020 Meeting with Industry Related to Revisions to Subsequent License Renewal Guidance Documents | ML20107F702
Summary of April 3, 2020 Meeting with Industry Regarding Changes to Subsequent License Renewal Guidance Documents | ML20107F733
Summary of April 7, 2020 Meeting with Industry Regarding Revisions to the Subsequent License Renewal Guidance Documents | ML20107F699

The NRC may post additional materials to the federal rulemaking website at https://www.regulations.gov under Docket ID NRC-2020-0160. The federal rulemaking website allows you to receive alerts when changes or additions occur in a docket folder. To subscribe: (1) Navigate to the docket folder (NRC-2020-0160); (2) click the “Sign up for Email Alerts” link; and (3) enter your email address and select how frequently you would like to receive emails (daily, weekly, or monthly).

Dated: June 29, 2020.
For the Nuclear Regulatory Commission.
Anna H. Bradford,
Director, Division of New and Renewed Licenses, Office of Nuclear Reactor Regulation.

[FR Doc. 2020-14323 Filed 7-1-20; 8:45 am]

BILLING CODE 7590-01-P